DEPARTMENT OF HOMELAND SECURITY

Federal Emergency Management Agency

[Docket ID FEMA-2020-0002; Internal Agency Docket No. FEMA-B-2017]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 2, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2017, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Horry County, South Carolina and Incorporated Areas
Project: MICS 18448 Preliminary Date: August 19, 2019
City of Conway | Building Department, 206 Laurel Street, Conway, SC 29526.
City of Myrtle Beach | City Services Building, 921 North Oak Street, Myrtle Beach, SC 29577.
City of North Myrtle Beach | Planning and Development Department, 1018 2nd Avenue South, North Myrtle Beach, SC 29582.
Unincorporated Areas of Horry County | Horry County Code Enforcement Office, 1301 2nd Avenue, Suite 1D09, Conway, SC 29526.
Hays County, Texas and Incorporated Areas
Project: 16-06-1113S Preliminary Date: October 29, 2019
City of Buda | City Engineer's Office, 405 East Loop Street, Building 100, Buda, TX 78610.
City of Dripping Springs | Public Works Department, 511 Mercer Street, Dripping Springs, TX 78620.
City of Hays | Hays City Hall, 520 Country Lane, Buda, TX 78610.
City of Kyle | Building Department, 100 West Center Street, Kyle, TX 78640.
City of Mountain City | City Hall, 101 Mountain City Drive, Mountain City, TX 78610.
City of San Marcos | Engineering Department, Municipal Building, 630 East Hopkins Street, San Marcos, TX 78666.
City of Wimberley | Planning and Development Department, 221 Stillwater Road, Wimberley, TX 78676.
Unincorporated Areas of Hays County | Hays County Development Services Department, 2171 Yarrington Road, Suite 100, Kyle, TX 78640.
Davis County, Utah and Incorporated Areas
Project: 10-08-1054S Preliminary Date: September 30, 2019
City of Bountiful | City Hall, 150 North Main Street, Suite 101, Bountiful, UT 84010.
City of Centerville | Community Development Department, 655 North 1250 West, Centerville, UT 84014.
City of Farmington | City Hall, 160 South Main Street, Farmington, UT 84025.
City of Fruit Heights City | City Hall, 910 South Mountain Road, Fruit Heights City, UT 84037.
City of Kaysville | City Hall, 23 East Center Street, Kaysville, UT 84037.
City of Layton | City Hall, 437 North Wasatch Drive, Layton, UT 84041.
City of West Bountiful | City Hall, 550 North 800 West, West Bountiful, UT 84087.
City of Woods Cross | City Hall, 1555 South 800 West, Woods Cross, UT 84087.
Unincorporated Areas of Davis County | Davis County Administration Building, 61 South Main Street, Farmington, UT 84025.
Essex County, Virginia and Incorporated Areas
Project: 19-03-0006S Preliminary Date: September 15, 2019
Unincorporated Areas of Essex County | Essex County Building and Zoning Department, 202 South Church Lane, Tappahannock, VA 22560.
Middlesex County, Virginia and Incorporated Areas
Project: 19-03-0011S Preliminary Date: September 16, 2019
Unincorporated Areas of Middlesex County | Middlesex County Building Department, 877 General Puller Highway, Saluda, VA 23149.

[FR Doc. 2020-07053 Filed 4-2-20; 8:45 am]

BILLING CODE 9110-12-P